DEPARTMENT OF HOMELAND SECURITY

U.S. Customs and Border Protection

[CBP Dec. No. 15-02]

Expansion of Global Entry to Seven Additional Airports

AGENCY: U.S. Customs and Border Protection; Department of Homeland Security.

ACTION: General notice.

SUMMARY: The Global Entry international trusted traveler program allows pre-approved, low-risk participants expedited entry into the United States using Global Entry kiosks located at designated airports. U.S. Customs and Border Protection (CBP) previously announced in the Federal Register thirty-two designated Global Entry airports. This document announces the expansion of the program to include seven additional designated airports.

DATES: Global Entry will be available at all seven airport locations on or before July 13, 2015. The exact starting date for each airport location will be announced on the CBP Global Entry Web site, http://www.globalentry.gov.

FOR FURTHER INFORMATION CONTACT: Larry Panetta, Office of Field Operations, (202) 344-1253, Larry.A.Panetta@cbp.dhs.gov.

SUPPLEMENTARY INFORMATION:

Background

Global Entry Program

Global Entry is a voluntary program that allows for the expedited clearance of pre-approved, low-risk travelers arriving in the United States at Global Entry kiosks located at designated airports. The Global Entry final rule, published in the Federal Register on February 6, 2012 (77 FR 5681), promulgated the regulation to establish Global Entry as an ongoing regulatory program and contains a detailed description of the program, the eligibility criteria, the application and selection process, and the initial twenty designated airports. See 8 CFR 235.12. Global Entry was expanded to include four additional designated airports in a notice published in the Federal Register on March 26, 2012. (77 FR 17492) Additionally, Global Entry was expanded to include eight additional designated airports in a notice published in the Federal Register on June 25, 2013. (78 FR 38069) Travelers who wish to participate in Global Entry must apply via the CBP Global Entry Web site, http://www.globalentry.gov or through the Global On-Line Enrollment System (GOES) Web site, https://goes-app.cbp.dhs.gov. Applications must be completed and submitted electronically.

The thirty-two airports previously designated for Global Entry, listed alphabetically by state, and then city, include:

• Phoenix Sky Harbor International Airport, Phoenix, Arizona (PHX);

• Los Angeles International Airport, Los Angeles, California (LAX);

• San Diego International Airport, San Diego, California (SAN);

• San Francisco International Airport, San Francisco, California (SFO);

• John Wayne Airport, Santa Ana, California (SNA);

• Denver International Airport, Denver, Colorado (DEN);

• Ft. Lauderdale Hollywood International Airport, Fort Lauderdale, Florida (FLL), including the General Aviation Facility private aircraft terminal;

• Miami International Airport, Miami, Florida (MIA);

• Orlando International Airport, Orlando, Florida (MCO);

• Sanford-Orlando International Airport, Sanford, Florida (SFB);

• Tampa International Airport, Tampa, Florida (TPA);

• Hartsfield-Jackson Atlanta International Airport, Atlanta, Georgia (ATL);

• Honolulu International Airport, Honolulu, Hawaii (HNL);

• Chicago O'Hare International Airport, Chicago, Illinois (ORD);

• Baltimore/Washington International Thurgood Marshall Airport, Baltimore, Maryland (BWI);

• Boston-Logan International Airport, Boston, Massachusetts (BOS);

• Detroit Metropolitan Wayne County Airport, Romulus, Michigan (DTW);

• Minneapolis-St. Paul International Airport, Minneapolis, Minnesota (MSP);

• Las Vegas-McCarran International Airport, Las Vegas, Nevada (LAS);

• Newark Liberty International Airport, Newark, New Jersey (EWR);

• John F. Kennedy International Airport, Jamaica, New York (JFK);

• Charlotte Douglas International Airport, Charlotte, North Carolina (CLT);

• Raleigh-Durham International Airport, Morrisville, North Carolina (RDU);

• Portland International Airport, Portland, Oregon (PDX);

• Philadelphia International Airport, Philadelphia, Pennsylvania (PHL);

• San Juan-Luis Munoz Marin International Airport, San Juan, Puerto Rico (SJU);

• Dallas Fort Worth International Airport, Dallas, Texas (DFW);

• George Bush Intercontinental Airport, Houston, Texas (IAH);

• San Antonio International Airport, San Antonio, Texas (SAT);

• Salt Lake City International Airport, Salt Lake City, Utah (SLC);

• Washington Dulles International Airport, Sterling, Virginia (IAD);

• Seattle-Tacoma International Airport-SEATAC, Seattle, Washington (SEA).

The preamble to the Global Entry final rule states that when CBP is ready to expand Global Entry to additional airports and has selected the airports, CBP will publish an announcement in the Federal Register and post the information on the Web site, http://www.globalentry.gov.

Expansion of Global Entry Program to Seven Additional Airports

CBP is designating seven additional airports for Global Entry. Each of these airports will have Global Entry kiosks for the use of participants. The additional airports, listed alphabetically by state, are:

• Ted Stevens Anchorage International Airport, Anchorage, Alaska (ANC);

• Chicago Midway International Airport, Chicago, Illinois (MDW);

• Cincinnati/Northern Kentucky International Airport, Hebron, Kentucky (CVG);

• Cleveland Hopkins International Airport, Cleveland, Ohio (CLE);

• Pittsburgh International Airport, Pittsburgh, Pennsylvania (PIT);

• Austin-Bergstrom International Airport, Austin, Texas (AUS);

• General Mitchell International Airport, Milwaukee, Wisconsin (MKE).

Global Entry will become operational at all seven airports on or before July 13, 2015. The exact starting dates of Global Entry at each airport location will be announced on the Web site, http://www.globalentry.gov.

Dated: January 7, 2015.
John P. Wagner,
Acting Assistant Commissioner, Office of Field Operations.

[FR Doc. 2015-00256 Filed 1-9-15; 8:45 am]

BILLING CODE 9111-14-P